FEDERAL MARITIME COMMISSION

Notice of Agreements Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreement are available through the Commission's website (www.fmc.gov) or by contacting the Office of Agreements at (202) 523-5793 or tradeanalysis@fmc.gov.

Agreement No.: 201443.

Agreement Name: Maersk/Network Shipping Ltd. Ad Hoc Space Charter Agreement.

Parties: Maersk A/S; Network Shipping, Ltd.

Filing Party: Wayne Rohde, Cozen O'Connor.

Synopsis: The agreement authorizes the parties to charter space to/from one another on an ad hoc basis in the trades between ports in Costa Rica, Ecuador and Guatemala on the one hand and ports in California on the other hand.

Proposed Effective Date: 02/03/2025.

Location: https://www2.fmc.gov/FMC.Agreements.Web/Public/AgreementHistory/88588.

Dated: December 26, 2024.
Alanna Beck,
Federal Register Alternate Liaison Officer.

[FR Doc. 2024-31454 Filed 12-31-24; 8:45 am]

BILLING CODE 6730-02-P